DEPARTMENT OF ENERGY

[FE Docket Nos. 04-131-NG, 04-95-LNG, 88-33-NG, 95-56-NG, 05-01-NG]

Office of Fossil Energy; Abitibi-Consolidated, Duke Energy LNG Marketing and Marketing and Management Company, Open Flow Gas Supply Corporation, Brymore Energy Inc., Selkirk Cogen Partners, L.P.; Orders Granting and Vacating Authority To Import and Export Natural Gas

AGENCY: Office of Fossil Energy, DOE.

ACTION: Notice of orders.

SUMMARY: The Office of Fossil Energy (FE) of the Department of Energy gives notice that during January 2005, it issued Orders granting authority to import and export natural gas. These Orders are summarized in the attached appendix and may be found on the FE Web site at http://www.fe.doe.gov (select gas regulation). They are also available for inspection and copying in the Office of Natural Gas & Petroleum Import & Export Activities, Docket Room 3E-033, Forrestal Building, 1000 Independence Avenue, SW., Washington, DC 20585, (202) 586-9478. The Docket Room is open between the hours of 8 a.m. and 4:30 p.m., Monday through Friday, except Federal holidays.

Issued in Washington, DC, on February 8, 2005.
R.F. Corbin,
Manager, Natural Gas Regulation, Office of Natural Gas & Petroleum, Import & Export Activities, Office of Fossil Energy.

Appendix

Orders Granting Import/Export Authorizations
[DOE/FE Authority]
Order No. | Date issued | Importer/exporter FE Docket No. | Import volume | Export volume | Comments
2064 | 1-5-05 | Abitibi-Consolidated 04-131-NG | 5 Bcf |  | Import and export natural gas from and to Canada, beginning on February 1, 2005, and extending through January 31, 2007.
2025-A | 1-6-05 | Duke Energy LNG Marketing and Management Company 04-95-LNG |  |  | Vacate blanket import authority.
266-A | 1-14-05 | Open Flow Gas Supply Corporation 88-33-NG |  |  | Vacate blanket import authority.
1076-A | 1-27-05 | Brymore Energy Inc 95-56-NG |  |  | Vacate blanket import and export authority.
2065 | 1-27-05 | Selkirk Cogen Partners, L.P 05-01-NG | 75 Bcf |  | Import and export a combined total of natural gas from and to Canada, beginning on January 29, 2005, and extending through January 28, 2007.

[FR Doc. 05-2778 Filed 2-11-05; 8:45 am]

BILLING CODE 6450-01-P